DEPARTMENT OF ENERGY

Federal Energy Regulatory Commission

[Project Nos.: 12540-002, 12545-002, 12548-002]

Hydrodynamics, Inc.; Notice of Applications Tendered for Filing With the Commission and Soliciting Additional Study Requests

April 14, 2008.

Take notice that the following hydroelectric applications have been filed with the Commission and are available for public inspection.

a. Type of Application: Minor unconstructed projects.

b. Project No.: 12540-002, 12545-002, and 12548-002.

c. Date filed: March 31, 2008.

d. Applicant: Hydrodynamics, Inc.

e. Names of Projects: Woods, Johnson, and Greenfield.

f. Location: On the Greenfield Main Canal and the Greenfield South Canal, parts of the Bureau of Reclamation's Sun River Irrigation Project, in Cascade and Teton Counties, Montana, near Fairfield, Montana.

g. Filed Pursuant to: Federal Power Act 16 U.S.C. 791 (a)-825(r).

h. Applicant Contact: Roger Kirk, Hydrodynamics, Inc., POB 1136, Bozeman, MT 59771, (406) 587-5086.

i. FERC Contact: Dianne Rodman, (202) 502-6077, dianne.rodman@ferc.gov.

j. Cooperating Agencies: We are asking Federal, State, local, and tribal agencies with jurisdiction and/or special expertise with respect to environmental issues to cooperate with us in the preparation of the environmental document. Agencies who would like to request cooperating status should follow the instructions for filing comments described in item l below. Cooperating agencies should note the Commission's policy that agencies that cooperate in the preparation of the environmental document cannot also intervene. See, 94 FERC 61,076 (2001).

k. Pursuant to section 4.32(b)(7) of 18 CFR of the Commission's regulations, if any resource agency, Indian Tribe, or person believes that an additional scientific study should be conducted in order to form an adequate factual basis for a complete analysis of the applications on their merits, the resource agency, Indian Tribe, or person must file a request for a study with the Commission not later than 60 days from the date of filing of the applications, and serve a copy of the request on the applicant.

l. Deadline for filing additional study requests and requests for cooperating agency status: May 30, 2008.

All documents (original and eight copies) should be filed with: Kimberly D. Bose, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site (http://www.ferc.gov) under the “e-Filing” link.

m. The applications are not ready for environmental analysis at this time.

n. The proposed Woods Project would be built at the Greenfield Main Canal's Woods drop structure. The applicant proposes to construct: (1) An inflatable weir spanning the full width of the canal; (2) an intake structure with trash rack and radial gate or stop-log shut off; (3) a buried, 72-inch-diameter, 750-foot-long steel or polyethylene penstock; (4) a powerhouse containing one Francis or propeller (Reaction) turbine and one generator with a rated output of 900 kilowatts (kW); (5) a tailrace about 12.5 feet long, returning flows to the canal; (6) a switchyard; and (7) a 0.1-mile-long, 69-kilovolt (kV) transmission line interconnecting with an existing powerline. Average annual generation would be 2.2 gigawatt hours (GWh).

The proposed Johnson Project would be built at the Greenfield South Canal's Johnson drop structure. The applicant proposes to construct: (1) An inflatable weir spanning the width of the canal; (2) an intake structure with trash rack and radial gate or stop-log shut off; (3) a buried, 60-inch-diameter, 900-foot-long steel or polyethylene penstock; (4) a powerhouse containing one Francis or propeller (Reaction) turbine and one generator with a rated output of 700 kW; (5) a tailrace, returning flows to the canal; (6) a switchyard; (7) a 0.5-mile-long, 69-kV transmission line interconnecting with an existing powerline; and (8) a powerhouse access road. Average annual generation would be 1.7 GWh.

The proposed Greenfield Project would be built at the Greenfield Main Canal's Greenfield drop structure. The applicant proposes to construct: (1) An inflatable weir spanning the width of the canal; (2) an intake structure with trash rack and radial gate or stop-log shut off; (3) a buried, 84-inch-diameter, 650-foot-long steel or polyethylene penstock; (4) a powerhouse containing one Francis or propeller (Reaction) turbine and one generator with a rated output of 600 kW; (5) a tailrace about 7 feet long, returning flows to the canal; (6) a switchyard; and (7) a 0.05-mile-long, 12-kV transmission line interconnecting with an existing powerline. Average annual generation would be 1.5 GWh.

The projects would use flows as they are provided in accordance with the needs of the Greenfield Irrigation District, which operates the canals. The projects would not impound water and would be operated strictly as run-of-river plants.

o. Copies of the applications are available for review at the Commission in the Public Reference Room or may be viewed on the Commission's Web site at http://www.ferc.gov using the “eLibrary” link. Enter the docket number excluding the last three digits in the docket number field to access the documents. For assistance, contact FERC Online Support at FERCOnlineSupport@ferc.gov or toll-free at 1-866-208-3676, or for TTY, (202) 502-8659. Copies are also available for inspection and reproduction at the address in item h above.

You may also register online at http://www.ferc.gov/docs-filing/esubscription.asp to be notified via e-mail of new filings and issuances related to these or other pending projects. For assistance, contact FERC Online Support.

p. With this notice, we are initiating consultation with the Montana State Historic Preservation Officer (SHPO), as required by § 106, National Historic Preservation Act, and the regulations of the Advisory Council on Historic Preservation, 36 CFR at § 800.4.

q. Procedural Schedule: The applications will be processed according to the following Hydro Licensing Schedule. Revisions to the schedule will be made as appropriate.

Issue deficiency letter and request additional information—April 2008.

Issue Scoping Document 1 for comments—May 2008.

Issue Scoping Document 2, if necessary—July 2008.

Issue acceptance letter and notice that applications are ready for environmental analysis—July 2008.

Notice of the availability of the multiple-project EA—December 2008.

Kimberly D. Bose,
Secretary.

[FR Doc. E8-8499 Filed 4-18-08; 8:45 am]

BILLING CODE 6717-01-P